DEPARTMENT OF DEFENSE

Office of the Secretary

[Docket ID: DoD-2023-HA-0116]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by March 14, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lane Purvis, 571-372-0460, whs.mc-alex.esd.mbx.dd-dod-information-collections@mail.mil.

SUPPLEMENTARY INFORMATION:

Title; Associated Form; and OMB Number: TRICARE Inpatient Satisfaction Survey (TRISS); OMB Control Number: 0720-TRSS.

Type of Request: New.

Number of Respondents: 63,600 (60,600 TRISS Adult; 3,000 TRISS Child).

Responses per Respondent: 1.

Annual Responses: 63,600.

Average Burden per Response: 7 minutes for TRISS Adult; 15 minutes for TRISS Child.

Annual Burden Hours: 7,820.

Needs and Uses: The Defense Health Affairs administers the TRISS surveys (TRISS Adult and TRISS Child) to understand perceptions of inpatient care among Military Health System users. The survey instruments adhere to the methodological and analytical protocols and questionnaire items mandated by the industry standard Hospital Consumer Assessment of Healthcare Providers and Systems protocol. Developed by the Centers for Medicare and Medicaid Services and the Agency for Healthcare Research and Quality, the program provides valid and reliable self-reported experience ratings of inpatient experiences. As a result, the TRISS program allows objective and meaningful comparisons between hospitals, in areas that are important to consumers. The main goals of the TRISS are to:

• Provide comparable data on the patient's perspective on care that allows objective and meaningful comparisons between hospitals on domains that are important to beneficiaries.

• Establish a uniform measure of user satisfaction with received healthcare services.

• Public reporting of the survey results is designed to create incentives for Military Treatment Facility (MTFs) to improve their quality of care.

The study population consists of military personnel, their family members, and eligible retirees and their family members with a recent overnight hospitalization. The survey is administered to patients after a recent discharge from either a MTF or a civilian hospital to gather information about their experience of the care they received. Data are reported quarterly to track trends over time.

Affected Public: Individuals or households.

Frequency: On occasion.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Lane Purvis.

Requests for copies of the information collection proposal should be sent to Mr. Purvis at whs.mc-alex.esd.mbx.dd-dod-information-collections@mail.mil.

Dated: February 7, 2024.
Aaron T. Siegel,
Alternate OSD Federal Register Liaison Officer, Department of Defense.

[FR Doc. 2024-02941 Filed 2-12-24; 8:45 am]

BILLING CODE 6001-FR-P